DEPARTMENT OF THE INTERIOR

Minerals Management Service

Agency Information Collection Activities: Submitted for Office of Management and Budget (OMB) Review; Comment Request

AGENCY: Minerals Management Service (MMS), Interior.

ACTION: Notice of a revision of a currently approved information collection (OMB Control Number 1010-0121).

SUMMARY: To comply with the Paperwork Reduction Act (PRA) of 1995, we are submitting to OMB for review and approval an information collection request (ICR) titled “Administrative Appeal Procedures” (formerly titled “Preliminary Statement of Issues and Fee Waiver”). We are also soliciting comments from the public on this ICR.

DATES: Submit written comments on or before August 12, 2002.

ADDRESSES: Submit written comments to the Office of Information and Regulatory Affairs, OMB, Attention: Desk Officer for the Department of the Interior (OMB Control Number 1010-0107), 725 17th Street, NW., Washington, DC 20503. Also, submit copies of your written comments to Carol Shelby, Regulatory Specialist, Minerals Management Service, MS 320B2, PO Box 25165, Denver, Colorado 80225. If you use an overnight courier service, MMS's courier address is Building 85, Room A-614, Denver Federal Center, Denver, Colorado 80225. You may also submit your comments at our e-mail address mrm.comments@mms.gov. Include the title of the information collection and the OMB control number in the “Attention” line of your comment. Also include your name and return address. Submit electronic comments as an ASCII file avoiding the use of special characters and any form of encryption. If you do not receive a confirmation that we have received your email, contact Ms. Shelby at (303) 231-3151 or FAX (303) 231-3385.

FOR FURTHER INFORMATION CONTACT: Carol Shelby, Regulatory Specialist, phone (303) 231-3151 or FAX (303) 231-3385.

SUPPLEMENTARY INFORMATION: Title: Administrative Appeal Procedures.

OMB Control Number: 1010-0121.

Bureau Form Numbers: None.

Abstract: The Department of the Interior (DOI) is responsible for matters relevant to mineral resource development on Federal and Indian lands and the Outer Continental Shelf (OCS). The Secretary of the Interior is responsible for managing the production of minerals from Federal and Indian lands and the OCS, collecting royalties from lessees who produce minerals, and distributing the funds collected in accordance with applicable laws. The Secretary also has an Indian trust responsibility to manage Indian lands and seek advice and information from Indian beneficiaries. MMS performs the royalty management functions for the Secretary.

On January 12, 1999, DOI published a proposed rule in the Federal Register (64 FR 1930) to revise the appeals process. Proposed 43 CFR part 4, subpart J, would have established a new 1-step process for appeals of royalty orders. Among other actions, the proposed rule would have replaced the current regulations at 30 CFR part 290 and 43 CFR part 4, subpart E, as they relate to appeals of royalty orders. MMS submitted an information collection request entitled “Preliminary Statement of Issues and Fee Waiver” to cover the information collection requirements in that proposed rule. OMB approved that request on April 13, 1999, and assigned OMB Control Number 1010-0121.

MMS received numerous negative comments about some of the provisions in the proposed rule. Consequently, on May 13, 1999, MMS published a final rule in the Federal Register (64 FR 26240) making final only those portions of the January 1999 proposed rule that received few, if any, comments. For example, rather than finalizing the substantive procedural changes in the proposed rule, the regulations in 30 CFR part 290 were separated into two subparts—subparts A and B—and rewritten using plain English principles. Subpart A relates to appeals for the Offshore Minerals Management program, and subpart B relates to appeals for the Royalty Management Program (currently Minerals Revenue Management). Subpart J of 43 CFR part 4 was added to the final rule to incorporate specific time frames required in the Federal Oil and Gas Royalty Simplification and Fairness Act of 1996. However, the final rule does not contain the substantive changes required to change the appeals process from a 2-step to a 1-step process as originally proposed in the proposed rule.

MMS is revising this information collection to cover the reporting requirements contained in the final rule. These requirements are located in 30 CFR parts 250 and 290. Refer to the burden chart for identified reporting requirements and associated burden hours. Submission of the information in this collection is necessary for MMS to initiate and track appeals of disputed orders. Proprietary information that is submitted is protected, and there are no questions of a sensitive nature included in this information collection.

Frequency: On occasion.

Estimated Number and Description of Respondents: 170 lessees or designees.

Estimated Annual Reporting and Recordkeeping “Hour” Burden: 265 hours. See the following chart for a breakdown of the burden estimate by CFR section and paragraph.

30 CFR Section | Requirement | Annual number of responses | Burden hours per response | Annual burden hours
250.1409 (a); (b)(2) | (a) When you receive the Reviewing Officer's final decision, you have 60 days to either pay the penalty or file an appeal in accordance with 30 CFR part 290 * * * (b) If you file an appeal, you must either: (1) [see § 250.1409(b)(1) below] or (2) Notify the Regional Adjudication Office * * * that you want your lease-specific/area-wide bond on file to be used as the bond for the penalty amount * * * | 10 | 1 | 10
250.1409 (b)(1) | (b) If you file an appeal, you must either: (1) Submit a surety bond * * * or (2) [see § 250.1409(b)(2) above] * * * | (¹) |  |
290.4(a), (b)(1) | For your appeal to be filed, MMS must receive all of the following within 60 days after you receive the decision or order: (a) A written Notice of Appeal together with a copy of the decision or order you are appealing * * * (b) A nonrefundable processing fee of $150 paid with the Notice of Appeal * * * (1) Identify the order you are appealing on the check or other form of payment * * * | 10 | 10 | 100
290.7(a)(2) | (a) The decision or order is effective during the 60-day period for filing an appeal * * * unless (1) * * * or (2) you post a surety bond under 30 CFR 250.1409 pending the appeal * * * | (¹) |  |
290.105(a)(1) and (2) | (a) You may appeal an order to the Director, Minerals Management Service * * * by filing a Notice of Appeal in the office of the official issuing the order within 30 days from service of the order * * * (1) Within the same 30-day period, you must file * * * a statement of reasons or written arguments or briefs * * * (2) If you are a designee, when you file your Notice of Appeal, you must serve your Notice of Appeal on the lessees for the leases in the order you appealed | 150 (²) | 1 | 150
290.106(a) | (a) If you are a lessee, * * * you may join in that appeal * * * by filing a Notice of Joinder with the office or official that issued the order | 10 | .5 | 5
Total |  | 180 |  | 265
¹ Burden covered in OMB Control Number 1010-0006.
² The statement of reasons required in 30 CFR 290.105(a)(1) is part of the administrative appeals process and is exempt from the Paperwork Reduction Act of 1995. Consequently, the burden for preparation of the statement of reasons is not included in this information collection request.

Estimated Annual Reporting and Recordkeeping “Non-hour” Burden: We have identified $1,500 of “non-hour” cost burden.

Comments: Section 3506(c)(2)(A) of the PRA (44 U.S.C. 3501, et seq.) requires each agency “* * * to provide notice * * * and otherwise consult with members of the public and affected agencies concerning each proposed collection of information * * *.” Agencies must specifically solicit comments to (a) evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on February 28, 2002, we published a Federal Register notice (67 FR 9316) with the required 60-day comment period announcing that we would submit this ICR to OMB for approval. We received comments from one organization. We responded to the comments in our ICR submission for OMB approval. We have posted a copy of the ICR at our Internet Web site http://www.mrm.mms.gov/Laws_R_D/FRNotices/FRInfColl.hem. We will also provide a copy of the ICR to you without charge upon request.

If you wish to comment in response to this notice, please send your comments directly to the offices listed under the ADDRESSES section of this notice. OMB has up to 60 days to approve or disapprove the information collection but may respond after 30 days. Therefore, to ensure maximum consideration, OMB should receive your comments by August 12, 2002. The PRA provides that an agency may not conduct or sponsor, and a person is not required to respond to, a collection of information unless it displays a currently valid OMB control number.

Public Comment Policy: We will post all comments received in response to this notice on our Internet Web site at http://www.mrm.mms.gov/Laws_R_D/InfoColl/InfoColCom.htm for public review. We also make copies of these comments, including names and home addresses of respondents, available for public review during regular business hours at our offices in Lakewood, Colorado.

Individual respondents may request that we withhold their home address from the record, which we will honor to the extent allowable by law. There may be circumstances in which we would withhold from the record a respondent's identity, as allowable by the law. If you wish us to withhold your name and/or address, you must state this prominently at the beginning of your comments. However, we will not consider anonymous comments. We will make all submissions from organizations or businesses, and from individuals identifying themselves as representatives or officials of organizations or businesses, available for public inspection in their entirety.

MMS Information Collection Clearance Officer: Jo Ann Lauterbach, telephone (202) 208-7744.

Dated: July 2, 2002.
Lucy Querques Denett,
Associate Director for Minerals Revenue Management.

[FR Doc. 02-17407 Filed 7-10-02; 8:45 am]

BILLING CODE 4310-MR-P